DEPARTMENT OF HOMELAND SECURITY

Coast Guard

33 CFR Part 117

[Docket No. USCG-2010-0521]

Drawbridge Operation Regulations; Grand River, Grand Haven, MI

AGENCY: Coast Guard, DHS.

ACTION: Notice of temporary deviation from regulations.

SUMMARY: Commander, Ninth Coast Guard District, issued a temporary deviation from the regulation governing the operation of the U.S. 31 Bridge at Mile 2.89 over the Grand River, at Grand Haven, MI. This deviation temporarily changes the bridges operating schedule to accommodate the City's Fourth of July and Coast Guard Festival events for 2010. This temporary deviation allows the bridges to remain secured to masted navigation on the dates and times listed.

DATES: This deviation is effective from 10 p.m. on July 4, 2010 to 2 a.m. on July 5, 2010 and again from 10 p.m. on August 7, 2010 to 2 a.m. on August 8, 2010.

ADDRESSES: Documents mentioned in this preamble as being available in the docket are part of docket USCG-2010-0521 and are available online by going to http://www.regulations.gov, inserting USCG-2010-0521 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Lee D. Soule, Bridge Management Specialist, Ninth Coast Guard District; telephone 216-902-6085, e-mail; lee.d.soule@uscg.mil. If you have questions on viewing the docket, call Renee V. Wright, Program Manager, Docket Operations, telephone 202-366-9826.

SUPPLEMENTARY INFORMATION: The City of Grand Haven, MI, requested a temporary deviation from the current operating regulations set forth in 33 CFR 117.633. The purpose of this request is to facilitate efficient management of all transportation needs and provide timely public safety services during these special events. The most updated and detailed current marine information for this event, and all bridge operations, is found in the Local Notice to Mariners and Broadcast Notice to Mariners issued by the Ninth District Commander. In accordance with 33 CFR 117.35(e), the drawbridge must return to its regular operating schedule immediately at the end of the designated time periods. These deviations from the operating regulations are authorized under 33 CFR 117.35.

Dated: June 11, 2010.
M.N. Parks,
Rear Admiral, U.S. Coast Guard, Commander, Ninth Coast Guard District.
F.M. Midgette,
Captain, U.S. Coast Guard, Commander, Ninth Coast Guard District, Acting.

[FR Doc. 2010-15705 Filed 6-28-10; 8:45 am]

BILLING CODE 9110-04-P